DEPARTMENT OF LABOR

Employment and Training Administration

[TA-W-53,192]

Telect, Sugar Hill, GA; Notice of Termination of Investigation

Pursuant to section 221 of the Trade Act of 1974, an investigation was initiated on October 8, 2003, in response to a worker petition which was filed on behalf of workers at Telect, Sugar Hill, Georgia.

An active certification covering the petitioning group of workers is already in effect (TA-W-41,469D, as amended). Consequently, further investigation in this case would serve no purpose, and the investigation has been terminated.

Signed in Washington, DC this 24th day of November, 2003.
Linda G. Poole,
Certifying Officer, Division of Trade Adjustment Assistance.

[FR Doc. 03-31672 Filed 12-23-03; 8:45 am]

BILLING CODE 4510-30-P